DEPARTMENT OF THE INTERIOR

Office of Surface Mining Reclamation and Enforcement

[OMB Control Number 1029-0117; S1D1S SS08011000 SX064A000 256S180110; S2D2S SS08011000 SX064A000 25XS501520]

Submission to the Office of Management and Budget for Review and Approval; Permit Applications—Minimum Requirements for Legal, Financial, Compliance, and Related Information

AGENCY: Office of Surface Mining Reclamation and Enforcement, Interior.

ACTION: Notice of information collection; request for comment.

SUMMARY: In accordance with the Paperwork Reduction Act of 1995, the Office of Surface Mining Reclamation and Enforcement (OSMRE) is proposing to renew an information collection.

DATES: Interested persons are invited to submit comments. To be considered, your comments must be received on or before August 22, 2025.

ADDRESSES: Send your comments on this information collection request (ICR) by mail to William Frankel, Office of Surface Mining Reclamation and Enforcement, 1849 C Street NW, Room 4745-MIB, Washington, DC 20240, by phone at 202-208-0121, or by email to wfrankel@osmre.gov. Please reference OMB Control Number 1029-0117 in the subject line of your comments.

FOR FURTHER INFORMATION CONTACT: William Frankel by email at wfrankel@osmre.gov. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 16, 2025 (90 FR 21076). No comments were received.

We are soliciting comments on the proposed ICR that is described below. We are especially interested in public comment addressing the following issues: (1) is the collection necessary to the proper functions of the agency; (2) will this information be processed and used in a timely manner; (3) is the estimate of burden accurate; (4) how might the agency enhance the quality, utility, and clarity of the information to be collected; and (5) how might the agency minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This collection of information is authorized by section 507(b) of the Surface Mining Control and Reclamation Act of 1977 (SMCRA), as amended, 30 U.S.C. 1257(b). This section provides that persons conducting coal mining activities submit to the regulatory authority all relevant information regarding ownership and control of the mining company, their compliance status and history, and authority to mine the property. This information is used to ensure all legal, financial and compliance requirements are satisfied prior to issuance or denial of a permit.

Title of Collection: Permit Applications—Minimum Requirements for Legal, Financial, Compliance, and Related Information.

OMB Control Number: 1029-0117.

Form Number: None.

Type of Review: Extension of a currently approved collection.

Respondents/Affected Public: Businesses, State and Tribal governments.

Total Estimated Number of Annual Respondents: 201.

Total Estimated Number of Annual Responses: 1,590.

Estimated Completion Time per Response: Varies 1 hour to 9 hours, depending on activity.

Total Estimated Number of Annual Burden Hours: 4,481.

Respondent's Obligation: Required to obtain or retain a benefit.

Frequency of Collection: One time.

Total Estimated Annual Nonhour Burden Cost: $0.

An agency may not conduct or sponsor and a person is not required to respond to a collection of information unless it displays a currently valid OMB control number.

The authority for this action is the Paperwork Reduction Act of 1995 (44 U.S.C. 3501 et seq.).

William L. Frankel,
Information Collection Clearance Officer, Office of Surface Mining Reclamation and Enforcement.

[FR Doc. 2025-13867 Filed 7-22-25; 8:45 am]

BILLING CODE 4310-05-P